INTERNATIONAL TRADE COMMISSION

Investigation No. 731-1TA-856 (Final)

Ammonium Nitrate from Russia

AGENCY: International Trade Commission.

ACTION: Revised schedule for the subject investigation.

EFFECTIVE DATE: March 15, 2000.

FOR FURTHER INFORMATION CONTACT: Karen Taylor (202-708-4101), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On January 7, 2000, the Commission established a schedule for the conduct of the final phase of the subject investigation (65 FR 2643. January 18, 2000). On March 1, 2000, the Commission published a notice in the Federal Register revising this schedule (65 FR 11080). This revised schedule provided for a public hearing to be held on May 24, 2000.

The Commission now is revising the date of the hearing to May 25, 2000; the hearing will be held at the U.S. International Trade Commission Building at 9:30 a.m. No other scheduled dates relative to this investigation are being revised.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

Issued: March 15, 2000.
By order of the Commission.
Donna R. Koehnke,
Secretary.

[FR Doc. 00-7078 Filed 3-21-00; 8:45 am]

BILLING CODE 7020-02-P